NUCLEAR REGULATORY COMMISSION

[Docket No. 50-346; License No. NPF-3; NRC-2010-0253]

Firstenergy Nuclear Operating Company; Request for Licensing Action

Notice is hereby given that by petition dated April 5, 2010, David Lochbaum (petitioner) has requested that the Nuclear Regulatory Commission (NRC) take action with regard to Davis-Besse Nuclear Power Station, Unit 1. The petitioner requests the NRC to issue a Show Cause Order (or comparable enforcement action), to the licensee for the Davis-Besse nuclear plant in Ohio, preventing the reactor from restarting until such time that the NRC determines applicable adequate protection standards have been met and reasonable assurance exists that these standards will continue to be met after operation is resumed.

As the basis for this request, the petitioner states that the Davis-Besse licensee has repeatedly violated Federal regulations and the explicit conditions of its operating license by operating with pressure boundary leakage longer than 6 hours.

The request is being treated pursuant to Title 10 of the Code of Federal Regulations Section 2.206 of the Commission's regulations. The request has been referred to the Director of the Office of Nuclear Reactor Regulation. As provided by Section 2.206, appropriate action will be taken on this petition within a reasonable time. A copy of the petition is available for inspection at the Commission's Public Document Room (PDR), located at One White Flint North, Public File Area O1 F21, 11555 Rockville Pike (first floor), Rockville, Maryland. Publicly available records will be accessible from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or by e-mail to PDR.Resource@nrc.gov.

Dated at Rockville, Maryland, this 13th day of July 2010.
For the Nuclear Regulatory Commission.
Bruce A. Boger,
Acting Director, Office of Nuclear Reactor Regulation.

[FR Doc. 2010-17834 Filed 7-20-10; 8:45 am]

BILLING CODE 7590-01-P